DEPARTMENT OF LABOR

Employment and Training Administration

Workforce Innovation and Opportunity Act; Native American Employment and Training Council

AGENCY: Employment and Training Administration, U.S. Department of Labor.

ACTION: Notice of meeting.

SUMMARY: Pursuant to the Federal Advisory Committee Act (FACA), and the Workforce Innovation and Opportunity Act (WIOA), notice is hereby given of the next meeting of the Native American Employment and Training Council (Council), as constituted under WIOA.

DATES: The meeting will begin at 12:00 p.m., (Eastern Daylight Time) on Tuesday, June 15, 2021, and continue until 4:30 p.m. The meeting will reconvene at 12:00 p.m., on Wednesday, June 16, 2021 and adjourn at 4:30 p.m. The period from 3:00 p.m., to 4:00 p.m., on June 16, 2021 is reserved for participation and comment by members of the public.

ADDRESSES: The meeting will be held virtually on the Zoom.gov platform. To join the meeting use the following: https://www.zoomgov.com/j/1613101548?pwd=dDBXQk1Uc2htNGZYR08rQ0s4VXB5QT09.

Meeting ID: 161 310 1548.

Passcode: 513970.

Dial in number: +1 (551) 285-1373.

SUPPLEMENTARY INFORMATION: Council members and members of the public are encouraged to logon to Zoom.gov early to allow for connection issues and troubleshooting.

Security Instructions: Meeting participants should use the link and dial in instructions provided in ADDRESSES.

The meeting will be open to the public.

Members of the public not present may submit a written statement by Thursday, June 11, 2021, to be included in the record of the meeting. Statements are to be submitted to Athena R. Brown, Designated Federal Officer (DFO), U.S. Department of Labor at brown.athena@dol.gov. Persons who need special accommodations should contact Suzie Casal at (703) 967-1829 or casal.suzie@dol.gov, at least two business days before the meeting. The formal agenda will focus on the following topics: (1) Update of National Congress of American Indians policy recommendations, (2) PY 2021/2022 training and technical assistance priorities, (3) update on Indian and Native American Employment Rights Office; (4) status of American Indian Labor Force Report; (5) employment and training conference plans; (6) Registered Apprenticeship; and (7) public comment.

FOR FURTHER INFORMATION CONTACT: Athena R. Brown, DFO, Division of Indian and Native American Programs, Employment and Training Administration, U.S. Department of Labor, Room C-4311, 200 Constitution Avenue NW, Washington, DC 20210. Telephone number (202) 693-3737 (VOICE) (this is not a toll-free number).

Suzan G. LeVine,
Principal Deputy Assistant Secretary for Employment and Training, Labor.

[FR Doc. 2021-11144 Filed 5-25-21; 8:45 am]

BILLING CODE 4510-FR-P